DEPARTMENT OF THE INTERIOR

Bureau of Land Management

[LLCAD06000 L51010000.ER0000.LVRWB12B4840]

Notice of Intent To Prepare an Environmental Impact Statement for the Rio Mesa Gen-Tie Project and Possible Land Use Plan Amendment, Riverside County, CA

AGENCY: Bureau of Land Management, Interior.

ACTION: Notice of intent.

SUMMARY: In compliance with the National Environmental Policy Act of 1969, as amended, (NEPA) and the Federal Land Policy and Management Act of 1976, as amended (FLPMA), the Bureau of Land Management (BLM) Palm Springs South Coast Field Office, Palm Springs, California, intends to prepare an Environmental Impact Statement (EIS) for the Rio Mesa Gen-Tie Project. The proposed project would require an amendment to the California Desert Conservation Area (CDCA) Plan (1980 as amended), which would be evaluated in this EIS. By this notice, the BLM is announcing the beginning of the scoping process to solicit public comments and identify issues related to the EIS/plan amendment (PA).

DATES: This notice initiates the public scoping process for the EIS/PA. Comments on issues related to the EIS/PA may be submitted in writing until September 28, 2012. The date(s) and location(s) of any scoping meetings will be announced at least 15 days in advance through local media, newspapers and the BLM Web site at: http://www.blm.gov/ca/st/en/fo/palmsprings/Solar_Projects.html. In order to be included in the analysis, all comments must be received prior to the close of the 30-day scoping period or 15 days after the last public meeting, whichever is later. We will provide additional opportunities for public participation as appropriate.

ADDRESSES: You may submit scoping comments for the proposed Rio Mesa Gen-Tie Project by any of the following methods:

• Web site: http://www.blm.gov/ca/st/en.html;

• Email: CARioMesa@blm.gov;

• Fax: 951-697-5299; or

• Mail: Lynnette Elser, Planning and Environmental Coordinator, BLM California Desert District Office, 22835 Calle San Juan de Los Lagos, Moreno Valley, CA 92553.

Documents pertinent to this proposal may be examined at the BLM Palm Springs South Coast Field Office, 1201 Bird Center Drive, Palm Springs, CA 92262 or at the BLM California Desert District Office.

For further information and/or to have your name added to our mailing list, contact Lynnette Elser, Planning and Environmental Coordinator; telephone 951-697-5233; address 22835 Calle San Juan de Los Lagos, Moreno Valley, CA 92553; email lelser@blm.gov. Persons who use a telecommunications device for the deaf (TDD) may call the Federal Information Relay Service (FIRS) at 800-877-8339 to contact the above individual during normal business hours. The FIRS is available 24 hours a day, 7 days a week, to leave a message or question with the above individual. You will receive a reply during normal business hours.

SUPPLEMENTARY INFORMATION: The applicant, Rio Mesa Solar Holdings, LLC, has requested a right-of-way (ROW) authorization to construct, operate, maintain, and decommission an approximately 8-mile generation interconnection transmission (gen-tie) line, an approximately 3-mile emergency power line and an approximately 1.6 miles of access roads on BLM-managed land. Through an application with the California Energy Commission, the applicant proposes to construct an approximately 3805-acre, 500-MW solar generation facility on nearby private lands. The above-identified components proposed on BLM-managed lands in Riverside County approximately 13 miles southwest of Blythe, California, would support this thermal power plant project. The Project's 230-kilovolt (kV) gen-tie line is proposed to parallel the existing Imperial Irrigation District F Line from where it crosses the Rio Mesa generation site north to the Southern California Edison Colorado River Substation where it could connect the Project to the regional transmission grid. Due to the number of transmission lines in this location, the BLM will consider whether the CDCA Plan should be amended by designating this area as a utility corridor. Additionally two pathways for 33-kV lines providing electrical service to the Project and two pathways for roads providing access to the Project are proposed on BLM-administered lands. If approved, project construction would begin in 2013 and would take approximately 24 months to complete.

The purpose of the public scoping process is to determine relevant issues that will influence the scope of the environmental analysis, including alternatives, and guide the process for developing the Draft EIS/PA. The BLM has identified the following preliminary issues: Air quality, biological resources, recreation, cultural resources, water resources, geological resources, special management areas, land use, noise, paleontological resources, public health, socioeconomic, soils, and traffic and transportation, visual resources. It should be noted that the BLM has determined that the proposed solar facility on private property is a connected action, and the BLM plans to analyze the potential effects of the solar facility in the EIS.

Pursuant to the BLM's CDCA Plan, sites associated with transmission above 161kV not identified in the CDCA Plan will be considered through the plan amendment process to determine the suitability of the site for energy transmission. Since a portion of the gen-tie route was not previously identified as a designated utility corridor, its authorization would require amendment of the CDCA Plan. By this notice, the BLM is complying with requirements in 43 CFR 1610.2(c) to notify the public of potential amendments to CDCA Plan predicated on the findings in the EIS. If a land use plan amendment is necessary, the BLM will integrate the land use planning process with the NEPA process for the Project. A preliminary list of the potential planning criteria that will be used to help guide and define the scope of the plan amendment process includes:

1. The plan amendments will be completed in compliance with FLPMA, NEPA, and all other relevant Federal laws, executive orders, and BLM policies;

2. Existing, valid plan decisions will not be changed and any new plan decisions will not conflict with existing plan decisions; and

3. The plan amendment(s) will recognize valid existing rights.

You may submit comments on issues and planning criteria in writing to the BLM at any public scoping meeting, or you may submit them to the BLM using one of the methods listed in the ADDRESSES section above. To be most helpful, you should submit comments by the close of the 30-day scoping period or within 15 days after the last public meeting, whichever is later.

Before including your address, phone number, email address, or other personal identifying information in your comment, you should be aware that your entire comment—including your personal identifying information—may be made publicly available at any time. While you can ask us in your comment to withhold your personal identifying information from public review, we cannot guarantee that we will be able to do so.

The BLM will utilize and coordinate the NEPA public participation requirements to assist the agency in satisfying the public involvement requirements under Section 106 of the National Historic Preservation Act (NHPA) (16 U.S.C. 470(f)) as provided for in 36 CFR 800.2(d)(3). Information about historic and cultural resources within the area potentially affected by the proposed Rio Mesa Project and potential CDCA Plan amendment will assist the BLM in identifying and evaluating impacts to such resources in the context of both NEPA and Section 106 of the NHPA.

The BLM will consult with Indian tribes on a government-to-government basis in accordance with Executive Order 13175 and other policies. Tribal concerns, including impacts on Indian trust assets, will be given due consideration. Federal, State, and local agencies, along with tribes and other stakeholders that may be interested or affected by the proposed action that the BLM is evaluating, are invited to participate in the scoping process and, if eligible, may request or be requested by the BLM to participate in the development of the environmental analysis as a cooperating agency.

The BLM will evaluate identified issues to be addressed in the plan, and will place them into one of three categories:

1. Issues to be resolved in the plan amendment;

2. Issues to be resolved through policy or administrative action; or

3. Issues beyond the scope of this plan amendment.

The BLM will provide an explanation in the EIS as to why an issue was placed in category two or three. The public is also encouraged to identify any management questions and concerns that should be addressed in the plan amendment. The BLM will work collaboratively with interested parties to identify the management decisions that are best suited to local, regional, and national needs and concerns.

The BLM will use an interdisciplinary approach to develop the plan amendment in order to consider the variety of resource issues and concerns identified. Specialists with expertise in the following disciplines will be involved in the planning process: Rangeland management, minerals and geology, outdoor recreation, archaeology, paleontology, wildlife and fisheries, lands and realty, hydrology, soils, and sociology and economics.

Authority: 40 CFR 1501.7 and 43 CFR 1610.2.

Thomas Pogacnik,
Deputy State Director, California.

[FR Doc. 2012-21272 Filed 8-28-12; 8:45 am]

BILLING CODE 4310-40-P